FEDERAL ACCOUNTING STANDARDS ADVISORY BOARD

Issuance of Statement of Federal Financial Accounting Standards (SFFAS) No. 24

AGENCY: Federal Accounting Standards Advisory Board.

ACTION: Notice of Issuance of Statement of Federal Financial Accounting Standards (SFFAS) No. 24.

Board Action: Pursuant to the Federal Advisory Committee Act (Pub. L. 92-463), as amended, and the FASAB Rules of Procedure, as amended in October, 1999, notice is hereby given that the Federal Accounting Standards Advisory Board has issued Statement of Federal Financial Accounting Standards (SFFAS) No. 24. Selected Standards for the Consolidated Financial Report of the United States Government.

The Board approved the Statement in October 2002, and submitted it to FASAB principals for a 90-day review. The review period closed on January 27, 2003.

SFFAS No. 24 states for the first time that all SFFAS's apply to all Federal entities (including the consolidated Government-wide entity) unless a standard specifically provides otherwise. In addition, it clarifies that the Statement of Budgetary Resources and Statement of Financing, while relevant for agencies executing the budget, are not required for the Government-wide CFR.

However, SFFAS 24 requires new statements for the CFR, but not for agencies or departments. The new statements provide information on net operating revenue (or cost), budget surplus (or deficit), and cash. The new statements are principal CFR financial statements and are to be presented on a comparative basis.

The standards prescribed in SFFAS No. 24 are effective for periods beginning after September 30, 2001. Hard copies of the statement will be mailed to the FASAB mailing list. It is also available on the FASAB web site at http://www.fasab.gov or by calling 202-512-7350.

FOR FURTHER INFORMATION CONTACT: Wendy Comes, Executive Director, 441 G St., NW., Mail Stop 6K17V, Washington, DC 20548, or call (202) 512-7350.

Authority: Federal Advisory Committee Act. Pub. L. 92-463.

Dated: February 10, 2003.
Wendy M. Comes,
Executive Director.

[FR Doc. 03-3766 Filed 2-14-03; 8:45 am]

BILLING CODE 1610-01-M